DEPARTMENT OF THE INTERIOR

National Park Service

[N6674; NPS-WASO-NAGPRA-NPS0041414; PPWOCRADN0-PCU00RP14.R50000]

Notice of Inventory Completion: University of Alabama Museums, Tuscaloosa, AL

AGENCY: National Park Service, Interior.

ACTION: Notice.

SUMMARY: In accordance with the Native American Graves Protection and Repatriation Act (NAGPRA), the University of Alabama Museums has completed an inventory of human remains and associated funerary objects and has determined that there is a cultural affiliation between the human remains and associated funerary objects and Indian Tribes or Native Hawaiian organizations in this notice.

DATES: Repatriation of the human remains and associated funerary objects in this notice may occur on or after January 16, 2026.

ADDRESSES: Send written requests for repatriation of the human remains and associated funerary objects in this notice to William Bomar, University of Alabama Museums, Box 870340, Tuscaloosa, AL 35487, email bbomar@ua.edu.

SUPPLEMENTARY INFORMATION: This notice is published as part of the National Park Service's administrative responsibilities under NAGPRA. The determinations in this notice are the sole responsibility of the University of Alabama Museums, and additional information on the determinations in this notice, including the results of consultation, can be found in its inventory or related records. The National Park Service is not responsible for the determinations in this notice.

Abstract of Information Available

Human remains representing, at least, 213 individuals have been identified. The 1,658 lots of associated funerary objects are ceramic vessels, ceramic sherds, rock, shell, celts, faunal bone, beads, lithics, axes, discoidal, debitage, daub, hairpin, and pigment.

In 1932, human remains representing, at minimum, 84 individuals, were removed from site 3Ms3/3Ms4, Nodena Site. This collection was obtained during limited excavations at Middle Nodena, 3MS3, and more extensive excavations at Upper Nodena, 3MS4, in Mississippi County, Arkansas by the Alabama Museum of Natural History. A total of 799 burials were excavated, nearly half of these coming from a small area at Upper Nodena Mound C. Artifacts from the excavations were assigned a field specimen number with the prefix NOD followed by a number. The 875 lots of associated funerary objects include ceramic vessels, ceramic sherds, rock, shell, celts, faunal bone, beads, lithics, axes, discoidal, debitage, daub, hairpin, and pigment.

In 1931, human remains representing, at minimum, 75 individuals, were removed from site 3Ms2, Walnut Mound Site. This collection was obtained during excavations conducted by the Alabama Museum of Natural History in 1931 along with excavations at the Nodena site. Limited investigations were conducted at a number of sites. Materials from the excavations were catalogued as field specimens with the prefix WAL followed by a number. The great majority of specimens are complete pottery vessels, partial vessels, or sherd lots. Chipped stone points, polished stone celts, axes, and discoidals, are included as are a number of bone, shell, and antler artifacts. The 525 lots of associated funerary objects include ceramic vessels, ceramic sherds, rock, shell, celts, faunal bone, beads, lithics, axes, discoidal, debitage, daub, hairpin, and pigment.

In 1933, human remains representing, at minimum, 15 individuals, were removed from site 3Ms71, Higginbotham Farm Site. This collection was obtained during excavations conducted by the Alabama Museum of Natural History in 1933. This was one of several excavations conducted along with more major work at the Nodena site and Walnut Mound. The materials from the excavations include field specimens with the prefix HI followed by a number. Most of the artifacts are pottery vessels. There are seven boxes of specimens in this collection. The 63 lots of associated funerary objects include ceramic vessels, ceramic sherds, rock, shell, celt, and faunal bone.

In 1933, human remains representing, at minimum, 39 individuals, were removed from site 3Po23, Potter's Farm Site. This collection was obtained during excavations conducted by the Alabama Museum of Natural History in 1933. This was one of several excavations conducted along with more major work at the Nodena site and the Walnut Mound. The materials from the excavations include field specimens with the prefix PO followed by a number. Most of the artifacts are pottery vessels, along with various chipped and ground stone tools, bone awls and needles, and other materials. The 195 lots of associated funerary objects include ceramic vessels, ceramic sherds, shell, faunal bone, ground stone, lithic, beads, and charcoal.

Cultural Affiliation

Based on the information available and the results of consultation, cultural affiliation is reasonably identified by the geographical location or acquisition history of the human remains and associated funerary objects described in this notice.

Determinations

The University of Alabama Museums has determined that:

• The human remains described in this notice represent the physical remains of 213 individuals of Native American ancestry.

• The 1,658 lots of associated funerary objects described in this notice are reasonably believed to have been placed intentionally with or near individual human remains at the time of death or later as part of the death rite or ceremony.

• There is a connection between the human remains and associated funerary objects described in this notice and the Quapaw Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 16, 2026. If competing requests for repatriation are received, the University of Alabama Museums must determine the most appropriate requestor prior to repatriation. Requests for joint repatriation of the human remains and associated funerary objects are considered a single request and not competing requests. The University of Alabama Museums is responsible for sending a copy of this notice to the Indian Tribes and Native Hawaiian organizations identified in this notice and any other consulting parties.

Authority: Native American Graves Protection and Repatriation Act, 25 U.S.C. 3003, and the implementing regulations, 43 CFR 10.10.

Dated: November 24, 2025.
Melanie O'Brien,
Manager, National NAGPRA Program.

[FR Doc. 2025-23026 Filed 12-16-25; 8:45 am]

BILLING CODE 4312-52-P